COMMITTEE FOR PURCHASE FROM PEOPLE WHO ARE BLIND OR SEVERELY DISABLED

Procurement List; Proposed Additions And Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and to delete products and a service previously furnished by such agencies.

DATES: Comments must be received on or before January 15, 2017.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN(s)—Product Name(s): 6645-01-NIB-0153—Clock, LCD Digital Display, Radio-Controlled, Silver, 9.75″ x 7.25″ x 1″

Mandatory for: Total Government Requirement

Mandatory Source(s) of Supply: Chicago Lighthouse Industries, Chicago, IL

Contracting Activity: General Services Administration, New York, NY

Distribution: A-List

NSN(s)—Product Name(s): MR 357—Tumblers, Red, White and Blue, Includes Shipper 10357

Mandatory for: Military commissaries and exchanges in accordance with the Code of Federal Regulations, Chapter 51, 51-6.4.

Mandatory Source(s) of Supply: Industries for the Blind, Inc., West Allis, WI

Contracting Activity: Defense Commissary Agency

Distribution: C-List

Service

Service Type: Document Destruction Service

Mandatory for: U.S. Department of Labor (DOL), Office of Workers' Compensation Programs, Charles E. Bennett Federal Building, 400 West Bay Street, Suites 722, 826 and 943 Jacksonville, FL

Mandatory Source(s) of Supply: Challenge Enterprises of North Florida, Inc., Green Cove Springs, FL

Contracting Activity: Dept of Labor, Office of the Assistant Secretary for Administration and Management OASAM-Atlanta Reg

Deletions

The following products and service are proposed for deletion from the Procurement List:

Products

NSN(s)—Product Name(s): 8520-00-NIB-0116—PURELL/SKILCRAFT Instant Hand Sanitizer, Gel, 1200ml

Mandatory Source(s) of Supply: Travis Association for the Blind, Austin, TX

Contracting Activity: Department of Veterans Affairs

NSN(s)—Product Name(s): 8950-01-E60-5752—Garlic Powder, 160 oz. Container, 5 lb. per container, 3/CS

Mandatory Source(s) of Supply: CDS Monarch, Webster, NY

Contracting Activities: Department of Veterans Affairs, Defense Logistics Agency Troop Support

NSN(s)—Product Name(s): 5340-01-527-6885—Clamp, Loop, CRES, 1/2″ loop x 1/2″ wide

Mandatory Source(s) of Supply: Provail, Seattle, WA

Contracting Activity: Defense Logistics Agency Troop Support

Service

Service Type: Document Destruction Service

Mandatory for: Internal Revenue Service: 2725 N. Westwood Blvd., Poplar Bluff, MO

Mandatory Source(s) of Supply: Cape Girardeau Community Sheltered Workshop, Inc., Cape Girardeau, MO

Contracting Activity: Department of the Treasury

Barry S. Lineback,
Director, Business Operations.

[FR Doc. 2016-30347 Filed 12-15-16; 8:45 am]

BILLING CODE 6353-01-P